COMMISSION ON CIVIL RIGHTS

Notice of Public Meeting of the Minnesota Advisory Committee; Cancellation

AGENCY: Commission on Civil Rights.

ACTION: Notice; cancellation of meeting date.

SUMMARY: The Commission on Civil Rights published a notice in the Federal Register concerning a meeting of the Minnesota Advisory Committee. The meeting scheduled for Thursday, July 28, 2022, at 11 a.m. (CT) is cancelled. The notice is in the Federal Register of Monday, June 13, 2022, in FR Doc. 2022-12597, in the first and second columns of page 35723.

FOR FURTHER INFORMATION CONTACT: David Barreras, (202) 656-8937, dbarreras@usccr.gov.

Dated: July 27, 2022.
David Mussatt,
Supervisory Chief, Regional Programs Unit.

[FR Doc. 2022-16436 Filed 7-29-22; 8:45 am]

BILLING CODE P